DEPARTMENT OF HOMELAND SECURITY

Transportation Security Administration

[Docket No. TSA-2004-19515]

Intent To Request Renewal From OMB of One Current Public Collection of Information: Air Cargo Security Requirements

AGENCY: Transportation Security Administration, DHS.

ACTION: 60-day notice.

SUMMARY: The Transportation Security Administration (TSA) invites public comment on one currently approved Information Collection Request (ICR), OMB control number 1652-0040, abstracted below that we will submit to the Office of Management and Budget (OMB) for renewal in compliance with the Paperwork Reduction Act. The ICR describes the nature of the information collection and its expected burden. The collections of information that make up this ICR involve five broad categories affecting airports, passenger aircraft operators, foreign air carriers, indirect air carriers operating under a security program, and all-cargo carriers: Security programs, security threat assessments (STA), known shipper data via the Known Shipper Management System (KSMS), cargo screening reporting, and evidence of compliance recordkeeping. TSA seeks continued OMB approval in order to secure passenger aircraft carrying cargo as authorized in the Aviation and Transportation Security Act.

DATES: Send your comments by December 13, 2010.

ADDRESSES: Comments may be e-mailed to TSAPRA@dhs.gov or delivered to the TSA Paperwork Reduction Act (PRA) Officer, Office of Information Technology (OIT), TSA-40, Transportation Security Administration, 601 South 12th Street, Arlington, VA 20598-6040.

FOR FURTHER INFORMATION: Please e-mail TSA.PRA@dhs.gov with questions or comments.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0040 Air Cargo Security requirements, 49 CFR parts 1540, 1542, 1544, 1546, and 1548. TSA is seeking renewal of an expiring collection of information. Congress set forth in the Aviation and Transportation Security Act (ATSA), Public Law 107-71, two specific requirements for TSA in the area of air cargo security: (1) To provide for screening of all property, including U.S. mail, cargo, carry-on and checked baggage, and other articles, that will be carried aboard a passenger aircraft; and (2) to establish a system to screen, inspect, report, or otherwise ensure the security of all cargo that is to be transported in all-cargo aircraft as soon as practicable. In the Implementing Recommendations of the 9/11 Commission Act of 2007, Public Law 110-53, Congress requires that 50 percent of cargo transported on passenger aircraft be screened by February 2009, and 100 percent of such cargo be screened by August 2010. Collection of information associated with the 9/11 Act requirements fall under OMB control number 1652-0053.

While aviation security requirements have greatly reduced the vulnerability of the air cargo system, TSA, in cooperation with industry stakeholders, identified additional gaps in the existing cargo security requirements that must be filled to reduce the likelihood of cargo tampering or unauthorized access to the aircraft with malicious intent. TSA must proceed with this ICR for this program in order to meet the Congressional mandates and current regulations (49 CFR 1542.209, 1544.205, 1546.205, and part 1548) that enable them to accept, screen, and transport air cargo. The uninterrupted collection of this information will allow TSA to continue to ensure implementation of these vital security measures for the protection of the traveling public.

Data Collection

This information collection requires the “regulated entities,” which may include passenger and all-cargo aircraft operators, foreign air carriers, and indirect air carriers (IACs), to implement a standard security program or to submit modifications to TSA for approval, and update such programs as necessary. The regulated entities must also collect personal information and submit such information to TSA so that TSA may conduct security threat assessments (STA) on individuals with unescorted access to cargo. This includes each individual who is a general partner, officer or director of an IAC or an applicant to be an IAC, and certain owners of an IAC or an applicant to be an IAC; and any individual who has responsibility for screening cargo under 49 CFR parts 1544, 1546, or 1548. Aircraft operators and foreign air carriers must report the volume of accepted and screened cargo transported on passenger aircraft. Further, TSA will collect identifying information for both companies and individuals whom aircraft operators, foreign air carriers, and IACs have qualified to ship cargo on passenger aircraft, also referred to as “known shippers.” This information is primarily collected electronically via the Known Shipper Management System (KSMS). Whenever the information cannot be entered on KSMS, the regulated entity must conduct a physical visit of the shipper using the Aviation Security Known Shipper Verification Form and subsequently enter that information into KSMS. These regulated entities must also maintain records including records pertaining to security programs, training, and compliance. The forms used in this collection of information include the Aviation Security Known Shipper Verification Form, Cargo Reporting Template, and the Security Threat Assessment Application.

Estimated Burden Hours

The hour burden associated with the initial submission of security programs is estimated by TSA to be 4 hours for each of the 152 new aircraft operator, foreign air carrier and IAC average annual regulated entites for an average annual hour burden of 606 hours.

The hour burden associated with the security program updates is estimated by TSA to be 4 hours for each of the 4,509 aircraft operators, foreign air carriers, and IACs for an average annual hour burden of 18,036 hours. TSA estimates one percent of IACs (42) will file an appeal at 5 hours per appeal for an average annual hour burden of 210 hours.

For the STA requirement, based on a 15-minute estimate for each of the average 40,003 annual responses, TSA estimates that the average annual burden will be 10,001 hours.

For the Known Shipper Management System (KSMS), given that the IAC or aircraft operator must input a name, address, and telephone number, TSA estimates it will take 2 minutes for the 792,000 electronic submissions for a total annual burden of 26,400 hours. Also for KSMS, TSA estimates it will take one hour for the 8,000 manual submissions for a total annual burden of 8,000 hours.

TSA estimates out of the 480 total aircraft operators and foreign air carriers impacted by TSA regulations, 135 aircraft operators and foreign air carriers will submit cargo screening reporting information because not all aircraft operators and foreign air carriers transport cargo. TSA estimates this will take an estimated one hour per week (52 hours per year) for a total average annual burden of 6,994 hours. For recordkeeping, based on a 5-minute estimate for each of the 40,003 average annual responses, TSA estimates that the total average annual burden will be 3,320 hours.

Issued in Arlington, Virginia, on October 7, 2010.
Joanna Johnson,
TSA Paperwork Reduction Act Officer, Office of Information Technology.

[FR Doc. 2010-25803 Filed 10-13-10; 8:45 am]

BILLING CODE 9110-05-P